DEPARTMENT OF ENERGY

Federal Energy Regulatory Commission

[Docket No. RP01-262-002]

Columbia Gas Transmission Corporation; Notice of Compliance Filing

November 9, 2001.

Take notice that on October 31, 2001, Columbia Gas Transmission Corporation (Columbia Gas) tendered for filing its report addressing the steps taken to mitigate increases in unaccounted-for gas levels to comply with the Commission's letter order issued on March 28, 2001 94 FERC ¶61,350 (2001).

Columbia Gas states that the instant report sets forth Columbia Gas' explanation of the possible causes of the increase in the lost and unaccounted-for quantities, and sets forth the resulting adjustments as promised in April 30, 2001 filing. Columbia Gas states that it proposes to reflect such adjustments in the calculation of the revised transportation retainage factor that was filed concurrently in Columbia Gas' Periodic RAM Filing. Columbia Gas states that the Periodic RAM Filing reflects the adjustments identified in the instant report that equate to a total one-time decrease of 1,889,900 Dth to the actual lost and unaccounted-for account.

Any person desiring to protest said filing should file a protest with the Federal Energy Regulatory Commission, 888 First Street, NE., Washington, DC 20426, in accordance with Section 385.211 of the Commission's Rules and Regulations. All such protests must be filed on or before November 14, 2001. Protests will be considered by the Commission in determining the appropriate action to be taken, but will not serve to make protestants parties to the proceedings. Copies of this filing are on file with the Commission and are available for public inspection in the Public Reference Room. This filing may be viewed on the Web at http://www.ferc.fed.us/online/rims.htm (call 202-208-2222 for assistance). Comments, protests and interventions may be filed electronically via the Internet in lieu of paper. See, 18 CFR 385.2001(a)(1)(iii) and the instructions on the Commission's Web site at http://www.ferc.fed.us/efi/doorbell.htm.

Linwood A. Watson, Jr.,
Acting Secretary.

[FR Doc. 01-28790 Filed 11-16-01; 8:45 am]

BILLING CODE 6717-01-P